DEPARTMENT OF HEALTH AND HUMAN SERVICES

Food and Drug Administration

[Docket No. FDA-2017-N-1129]

Medical Devices; Exemptions From Premarket Notification: Class II Devices

AGENCY: Food and Drug Administration, HHS.

ACTION: Notice.

SUMMARY: The Food and Drug Administration (FDA or Agency) is announcing a list of class II devices that the Agency has determined based on established factors to no longer require premarket notification to provide reasonable assurance of safety and effectiveness, subject to certain limitations. FDA is publishing this notice of that determination in accordance with procedures established by the 21st Century Cures Act. This notice represents FDA's final determination with respect to the list of class II devices proposed in a March 14, 2017, Federal Register document. The exemptions in this notice will decrease regulatory burdens on the medical device industry and will eliminate private costs and expenditures required to comply with certain Federal regulations.

FOR FURTHER INFORMATION CONTACT: Bryce Bennett, Center for Devices and Radiological Health, Food and Drug Administration, 10903 New Hampshire Ave., Bldg. 66, Rm. 5244, Silver Spring, MD 20993, email: Gregory.Bennett@fda.hhs.gov.

SUPPLEMENTARY INFORMATION:

I. Background

In the Federal Register of March 14, 2017 (82 FR 13609), FDA issued a notice proposing to exempt a list of class II devices from the premarket notification requirements under section 510(k) of the Federal Food, Drug, and Cosmetic Act (the FD&C Act) (21 U.S.C. 360(k)), subject to certain limitations. This notice was issued in accordance with the 21st Century Cures Act (Pub. L. 114-255), which was signed into law on December 13, 2016. Section 3054 of that statute amended section 510(m) of the FD&C Act. As amended, section 510(m)(1)(A) of the FD&C Act provides that, within 90 days after enactment of the 21st Century Cures Act and at least once every 5 years thereafter, FDA must publish in the Federal Register a notice containing a list of each type of class II device that FDA determines no longer requires a report under section 510(k) of the FD&C Act (generally referred to as a premarket notification or “510(k)”) to provide reasonable assurance of safety and effectiveness. Within 210 days of enactment of the 21st Century Cures Act, FDA must publish in the Federal Register a list representing its final determination regarding the list of devices proposed in the March 14, 2017, notice. Section 510(m)(3) of the FD&C Act provides that upon the date that this final list is published in the Federal Register, a 510(k) will no longer be required for the listed devices and the applicable classification regulation for these devices shall be deemed amended to incorporate such exemption. Interested persons were given until May 15, 2017, to comment on the proposed list of class II devices. After reviewing these comments and considering whether the proposed list should be modified, FDA is now identifying its final determination as to which of those devices are now exempt from premarket notification requirements, subject to certain limitations, as indicated in tables 1 to 3 of this notice.

In a future action, FDA intends to amend the codified language for each listed device's classification regulation to reflect this final determination. Persons with pending 510(k) submissions for devices that are now exempt from premarket notification, subject to the limitations on exemptions, should withdraw their submissions.

These exemptions will decrease regulatory burdens on the medical device industry and will eliminate private costs and expenditures required to comply with Federal regulation. Specifically, regulated industry will no longer have to invest time and resources in premarket notifications, including preparation of documents and data for submission to FDA, payment of user fees associated with 510(k) submissions, and responding to questions and requests for additional information from FDA during 510(k) review.

II. Criteria for Exemption

There are a number of factors FDA may consider to determine whether a 510(k) is necessary to provide reasonable assurance of the safety and effectiveness of a class II device. These factors are discussed in the January 21, 1998, Federal Register notice (63 FR 3142) and subsequently in the guidance the Agency issued on February 19, 1998, entitled “Procedures for Class II Device Exemptions from Premarket Notification, Guidance for Industry and CDRH Staff” (“Class II 510(k) Exemption Guidance”) (Ref. 1).

III. Limitations on Exemptions

FDA believes that the types of class II devices listed in this notice should be exempt from the premarket notification requirements found under section 510(k) of the FD&C Act. However, an exemption from the requirement of premarket notification does not mean that the device is exempt from any other statutory or regulatory requirements, unless such exemption is explicitly provided by order or regulation. FDA's determination that premarket notification is unnecessary to provide a reasonable assurance of safety and effectiveness for devices listed in this document is based, in part, on the assurance of safety and effectiveness that other regulatory controls, such as current good manufacturing practice requirements, provide.

In addition to being subject to the general limitations to the exemptions found in Title 21 of the Code of Federal Regulations (CFR) sections 862.9 to 892.9 (§§ 862.9 to 892.9), when Agency assessment determines that the factors laid out in the Class II 510(k) Exemption Guidance (Ref. 1) do not weigh in favor of exemption for all devices in a particular group, FDA may partially limit the exemption from premarket notification requirements to specific devices within a listed device type. In such situations where a partial exemption limitation has been identified, FDA has determined that premarket notification is necessary to provide a reasonable assurance of safety and effectiveness for these devices. Partial exemption limitations can be found in table 2 of this notice. FDA has assigned new product codes to the device types that are now exempt subject to the partial limitations in order to ensure that these devices can be separated from devices that do not fall within the partial exemption limitation under the existing product code (i.e., exempt and non-exempt devices within a device type will have distinct product codes). If table 2 indicates that a partial exemption limitation does apply to a device, then affected device manufacturers should review their registration and listing information to assess if they should list their device using the original classification product code, which requires premarket notification, or the new classification product code for the subset of that device type that is now 510(k) exempt (subject to the general limitations to the exemptions found in §§ 862.9 to 892.9). In table 2, for example, FDA is listing the exemption of the tympanometer but limits the exemption to such devices that are in compliance with FDA-recognized consensus standard ANSI S3.39. Tympanometers that comply with this partial exemption limitation and the corresponding general limitations in § 874.9 are now exempt from the 510(k) requirements and should be identified under new product code “PTP” in subsequent registration and listing submissions. However, tympanometers not in compliance with each of these exemption limitations remain subject to the 510(k) requirements and will retain product code “NAS.” We recommend that device manufacturers document in their records any changes in the product code of their device with appropriate justification.

IV. List of Class II Devices

In table 1, FDA is identifying the following list of class II devices that no longer require premarket notification under section 510(k) of the FD&C Act, subject to the general limitations to the exemptions found in §§ 862.9 to 892.9:

Table 1—Class II Devices
21 CFR section | Device type | Product code
862.1020 | Acid Phosphatase, Nitrophenylphosphate | CJN
862.1020 | Acid Phosphatase, Thymol Blue Monophosphate | CJR
862.1020 | Acid Phosphatase, Disodium Phenylphosphate | CJX
862.1020 | Acid Phosphatase, Naphthyl Phosphate | CKB
862.1020 | Acid Phosphatase, Thymolphthale Inmonophosphate | CKE
862.1020 | Acid Phosphatase, Beta Glycerophosphate | CKH
862.1020 | Acid Phosphatase (Prostatic), Tartrate Inhibited | JFH
862.1090 | Radioassay, Angiotensin Converting Enzyme | KQN
862.1100 | Vanillin Pyruvate, AST/SGOT | CIF
862.1100 | Diazo, AST/SGOT | CIQ
862.1100 | Hydrazone Colorimetry, AST/SGOT | CIS
862.1100 | NADH Oxidation/NAD Reduction, AST/SGOT | CIT
862.1150 | Calibrator, Primary | JIS
862.1150 | Calibrator, Secondary | JIT
862.1150 | Calibrator, Surrogate | JIW
862.1150 | Calibrator, Multi-Analyte Mixture | JIX
862.1345 | Drink, Glucose Tolerance | MRV
862.1350 | Continuous Glucose Monitor Secondary Display | PJT
862.1445 | Chromatographic Separation, Lactate Dehydrogenase Isoenzymes | CEX
862.1445 | Electrophoretic, Lactate Dehydrogenase Isoenzymes | CFE
862.1445 | Differential Rate Kinetic Method, Lactate Dehydrogenase Isoenzymes | JGF
862.1509 | System, Test, Urinary Methylmalonic Acid | LPT
862.1685 | Radioimmunoassay, Thyroxine-Binding Globulin | CEE
862.1700 | Radioimmunoassay, Total Thyroxine | CDX
862.1700 | Enzyme Immunoassay, Non-Radiolabeled, Total Thyroxine | KLI
862.2265 | High Throughput DNA Sequence Analyzer | PFF
862.2570 | Instrumentation For Clinical Multiplex Test Systems | NSU
862.2570 | Real Time Nucleic Acid Amplification System | OOI
862.2570 | Mass Spectrometer For Clinical Multiplex Test Systems | OTA
862.2570 | Micro Total Analysis Instrument System | OUE
862.2570 | Complete Gene Expression Profiling Accessory Reagents | OVA
862.2570 | DNA Genetic Analyzer | PCA
862.2570 | Data Acquisition Software | PQQ
862.3200 | Calibrators, Drug Mixture | DKB
862.3200 | Calibrators, Drug Specific | DLJ
862.3200 | Calibrators, Ethyl Alcohol | DNN
864.5400 | Fibrometer | GIE
864.5400 | Timer, Coagulation | JBT
864.5425 | Control, Plasma, Abnormal | GGC
864.5425 | Plasma, Coagulation Control | GGN
864.5425 | Plasma, Control, Normal | GIZ
864.6550 | Control, Fecal Occult Blood | OSL
864.6650 | Study, Platelet Adhesive | JBZ
864.7275 | Test, Euglobulin Lysis | JBO
864.7300 | Fibrin Monomer Paracoagulation | JBN
864.7340 | Fibrinogen Standard | GFX
864.7340 | Plasma, Fibrinogen Control | GIL
864.7375 | Glutathione, Red-Cell | GII
864.7375 | Fluorescence, Visual Observation (Qual., U.V.), Glutathione Reductase | JMH
864.7375 | Assay, Glutathione Reductase | KQF
864.7415 | Control, Hemoglobin, Abnormal | JCM
864.7455 | Stain, Fetal Hemoglobin | GHQ
864.7500 | Acid Hematin | GGF
864.7720 | Test, Prothrombin Consumption | GGQ
864.7735 | Prothrombin-Proconvertin and Thrombotest | JPF
864.8150 | Calibrator for Cell Indices | KRX
864.8165 | Calibrator for Hemoglobin and Hematocrit Measurement | KRZ
864.8175 | Calibrator for Platelet Counting | KRY
864.8185 | Calibrator for Red-Cell and White-Cell Counting | KSA
864.8625 | Standards and Controls, Hemoglobin, Normal and Abnormal | GFS
864.8625 | Control, White-Cell | GGL
864.8625 | Control, Hemoglobin | GGM
864.8625 | Control, Platelet | GJP
864.8625 | Control, Red-Cell | GJR
864.8625 | Control, Hematocrit | GLK
864.8625 | Mixture, Control, White-Cell and Red-Cell Indices | GLQ
864.8625 | Control, Cell Counter, Normal and Abnormal | JCN
864.8625 | Mixture, Hematology Quality Control | JPK
864.8625 | Material, Quality Control, Semen Analysis | NRF
864.8625 | Control Material, Blood Circulating Epithelial Cancer Cell | NRS
864.9400 | Solution, Stabilized Enzyme | KSK
866.3395 | Norovirus Serological Reagents | OUC
866.5210 | Immunochemical, Ceruloplasmin | CHN
866.5210 | Ceruloplasmin, Rhodamine, Antigen, Antiserum, Control | DCT
866.5210 | Ceruloplasmin, FITC, Antigen, Antiserum, Control | DCY
866.5210 | Ceruloplasmin, Antigen, Antiserum, Control | DDB
866.5210 | P-Phenyl-Enediamine/EDTA (Spectrophotometric), Ceruloplasmin | JFQ
866.5210 | Indirect Copper Assay, Ceruloplasmin | JFR
866.5470 | Hemoglobin, Chain Specific, Antigen, Antiserum, Control | DAM
866.5620 | Alpha-2-Macroglobulin, Rhodamine, Antigen, Antiserum, Control | DDT
866.5620 | Alpha-2-Macroglobulin, FITC, Antigen, Antiserum, Control | DDY
866.5620 | Alpha-2-Macroglobulin, Antigen, Antiserum, Control | DEB
866.5630 | System, Test, Beta-2-Microglobulin Immunological | JZG
866.5910 | Quality Control Material, Genetics, DNA | NZB
868.1040 | Algesimeter, Powered | BSI
868.1400 | Legging, Compression, Non-Inflatable | LLK
868.2500 | Monitor, Oxygen, Cutaneous, For Infant Not Under Gas Anesthesia | KLK
868.2500 | Monitor, Oxygen, Cutaneous, For Uses Other Than For Infant Not Under Gas Anesthesia | LPP
868.2550 | Pneumotachometer | JAX
868.5180 | Bed, Rocking, Breathing Assist | CCO
868.6250 | Compressor, Air, Portable | BTI
870.1390 | Trocar | DRC
870.1875 | Lung Sound Monitor | OCR
870.2675 | Oscillometer | DRZ
870.4280 | Filter, Prebypass, Cardiopulmonary Bypass | KRJ
870.4290 | Adaptor, Stopcock, Manifold, Fitting, Cardiopulmonary Bypass | DTL
870.4340 | Monitor and/or Control, Level Sensing, Cardiopulmonary Bypass | DTW
870.4420 | Sucker, Cardiotomy Return, Cardiopulmonary Bypass | DTS
870.4430 | Suction Control, Intracardiac, Cardiopulmonary Bypass | DWD
872.1720 | Tester, Pulp | EAT
872.3260 | External Cleaning Solution | PME
872.3300 | Coating, Denture Hydrophilic, Resin | EBE
872.3540 | Pad, Denture, Over The Counter | EHR
872.3540 | Cushion, Denture, Over The Counter | EHS
872.3560 | Reliner, Denture, Over The Counter | EBP
872.3590 | Denture, Plastic, Tooth | ELM
872.3600 | Denture Preformed (Partially Prefabricated Denture) | EKO
872.3890 | Splint, Endodontic Stabilizing | ELS
872.5550 | Ring, Teething, Fluid-Filled | KKO
872.6770 | Syringe, Cartridge | EJI
874.1120 | Generator, Electronic Noise (for Audiometric Testing) | ETS
874.1325 | Electroglottograph | KLX
874.3310 | Calibrator, Hearing Aid/Earphone and Analysis Systems | ETW
874.3320 | Hearing Aid, Group and Auditory Trainer | EPF
874.3320 | Device, Assistive Listening | LZI
874.3330 | Hearing Aid, Master | KHL
874.3430 | Mold, Middle-Ear | ETC
874.3730 | Device, Voice Amplification | MCK
876.1500 | Light Source, Incandescent, Diagnostic | FCQ
876.1500 | Light Source, Photographic, Fiberoptic | FCR
876.1500 | Light Source, Fiberoptic, Routine | FCW
876.1500 | Carrier, Sponge, Endoscopic | FGS
876.1500 | Light Source, Endoscope, Xenon Arc | GCT
876.1500 | Transformer, Endoscope | GCW
876.1500 | LED Light Source | NTN
876.1500 | Endoscopic Guide Wire, Gastroenterology-Urology | OCY
876.4020 | Light, Catheter, Fiberoptic, Glass, Ureteral | FCS
876.4270 | Rod, Colostomy | EZP
876.4400 | Ligator, Hemorrhoidal | FHN
876.4400 | Ligator, Esophageal | MND
876.4500 | Lithotriptor, Biliary Mechanical | LQC
876.4770 | Urethrotome | EZO
876.5010 | Bag, Bile Collecting | EXF
876.5025 | Vibrator for Climax Control of Premature Ejaculation | PIA
876.5365 | Dilator, Esophageal (Metal Olive) Gastro-Urology | EZM
876.5365 | Bougie, Esophageal, and Gastrointestinal, Gastro-Urology | FAT
876.5365 | Dilator, Esophageal | KNQ
876.5520 | Dilator, Urethral | KOE
876.5665 | Disinfectant, Subsystem, Water Purification | NIH
876.5820 | Set, Dialyzer Holder | FKI
876.5895 | Irrigator, Ostomy | EXD
876.5980 | Catheter, Retention, Barium Enema With Bag | FGD
876.5980 | Gastrostomy Tube Holder | PLI
878.4370 | Drape, Surgical, ENT | ERY
878.4370 | Drape, Pure Latex Sheet, With Self-Retaining Finger Cot | EYX
878.4370 | Drape, Urological, Disposable | EYY
878.4370 | Pad, Kelly | FNW
878.4370 | Drape, Patient, Ophthalmic | HMT
878.4370 | Drape, Microscope, Ophthalmic | HMW
878.4370 | Ring (Wound Protector), Drape Retention, Internal | KGW
878.4580 | Lamp, Operating-Room | FQP
878.4580 | Light, Surgical, Instrument | FSQ
878.4580 | Light, Surgical, Floor Standing | FSS
878.4580 | Light, Surgical, Endoscopic | FSW
878.4580 | Light, Surgical, Connector | FSX
878.4580 | Light, Surgical, Ceiling Mounted | FSY
878.4580 | Light, Surgical, Carrier | FSZ
878.4580 | Light, Surgical, Accessories | FTA
878.4580 | Lamp, Surgical | FTD
878.4580 | Illuminator, Remote | FTG
878.4580 | Lamp, Surgical, Incandescent | GBC
878.5070 | Apparatus, Air Handling, Bench | FZG
878.5070 | Apparatus, Air Handling, Room | FZH
878.5070 | Apparatus, Air Handling, Enclosure | FZI
880.5580 | Locator, Acupuncture Point | BWJ
880.5580 | Needle, Acupuncture, Single Use | MQX
880.5780 | Stocking, Medical Support (to Prevent Pooling of Blood in Legs) | DWL
882.1020 | Analyzer, Rigidity | GZM
882.1540 | Device, Galvanic Skin Response Measurement | GZO
882.1560 | Device, Skin Potential Measurement | HCJ
882.1855 | Encephalogram Telemetry System | GYE
882.5895 | Vibratory Counter-Stimulation | OVP
884.2990 | Sheet, Recording, Breast Examination | NHM
884.3200 | Drain, Cervical | HFL
884.4400 | Forceps, Obstetrical | HDA
884.4530 | Clamp, Umbilical | HFW
884.4530 | Speculum, Vaginal, Nonmetal | HIB
884.4530 | Speculum, Vaginal, Nonmetal, Fiberoptic | HIC
884.4530 | Clamp and Cutter, Umbilical | NBZ
884.4900 | Table, Obstetrical, AC-Powered (and Accessories) | HDD
884.4900 | Table, Obstetrical, Manual (and Accessories) | HHP
884.4900 | Table, Obstetric (and Accessories) | KNC
884.5200 | Hemorrhoid Prevention Pressure Wedge | OOA
884.5390 | Heater, Perineal, Direct Contact | HGZ
884.5390 | Heater, Perineal, Radiant, Non-Contact | HHA
884.5390 | Heater, Perineal | KND
884.5400 | Cup, Menstrual | HHE
884.5425 | Pad, Menstrual, Scented | HHL
884.6150 | Micromanipulators and Microinjectors, Assisted Reproduction | MQJ
886.1120 | Photorefractor | MMF
886.1120 | Camera, Ophthalmic, General-Use | PJZ
886.1250 | Euthyscope, AC-Powered | HMK
886.1570 | Ophthalmoscope, AC-Powered | HLI
886.1570 | Ophthalmoscope, Battery-Powered | HLJ
886.1570 | Ophthalmoscopes, Replacement Batteries, Hand-Held | MSG
886.1780 | Retinoscope, AC-Powered | HKL
886.1945 | Transilluminator, AC-Powered | HJM
886.4150 | Tubing, Replacement, Phacofragmentation Unit | MSR
886.4250 | Unit, Electrolysis, AC-Powered, Ophthalmic | HRO
886.4335 | Headlight, Fiberoptic Focusing | FCT
886.4335 | Light, Headband, Surgical | FSR
886.4335 | Headlamp, Operating, AC-Powered | HPQ
886.4400 | Locator, Metal, Electronic | HPM
886.4440 | Magnet, AC-Powered | HPO
886.4790 | Sponge, Ophthalmic | HOZ
886.4790 | Eye Tray | OJK
888.1240 | Dynamometer, AC-Powered | LBB
888.4580 | Instrument, Surgical, Sonic and Accessory/Attachment | JDX
888.4580 | System, Cement Removal Extraction | LZV
890.1450 | Hammer, Reflex, Powered | IKO
890.5100 | Bath, Hydro-Massage | ILJ
890.5100 | Bath, Sitz, Powered | ILM
890.5110 | Bath, Paraffin | IMC
890.5250 | Cabinet, Moist Steam | IMB
890.5360 | Exerciser, Measuring | ISD
890.5500 | Lamp, Infrared, Therapeutic Heating | ILY
890.5575 | Device, Warning, Overload, External Limb, Powered | IRN
892.1000 | MRI Disposable Kit | OIM
892.1560 | Biopsy Needle Guide Kit | OIJ
892.1610 | Aperature, Radiographic | IZS
892.1610 | Cone, Radiographic | IZT
892.1610 | Collimator, Automatic, Radiographic | IZW
892.1610 | Collimator, Manual, Radiographic | IZX
892.1610 | Device, Beam Limiting, X-Ray, Diagnostic | KPW
892.1650 | Arthrogram Tray | OII
892.1650 | Radiology Dental Tray | OIK
892.1670 | Device, Spot-Film | IXL
892.1680 | Radiographic Contrast Tray | OIO
892.1680 | Radiology Diagnostic Kit | OIP
892.1730 | Discography Kit | OIL
892.1820 | Chair, Pneumocephalographic | HBK
892.1850 | Cassette, Radiographic Film | IXA
892.1860 | Changer, Radiographic Film/Cassette | KPX
892.1870 | Programmer, Changer, Film/Cassette, Radiographic | IZP
892.1900 | Controller, Temperature, Radiographic | EGT
892.1900 | Dryer, Film, Radiographic | EGW
892.1900 | Processor, Radiographic-Film, Automatic, Dental | EGY
892.1900 | Processor, Radiographic-Film, Automatic | IXW
892.1900 | Processor, Cine Film | IXX
892.2030 | Digitizer, Image, Radiological | LMA
892.2030 | Digitizer, Images, Ophthalmic | NFH
892.2040 | Camera, Multi Format, Radiological | LMC
892.2040 | Device, Hardcopy, Images, Ophthalmic | NFI
892.5730 | Prostate Seeding Kit | OIN

In table 2, FDA is identifying a list of class II devices that no longer require premarket notification under section 510(k) of the FD&C Act, subject to the general limitations to the exemptions found in §§ 862.9 to 892.9, as well as the indicated partial exemption limitations. Devices listed in table 2 are now exempt, but only if they are in concurrent compliance with both the partial exemption limitation specified in table 2 and its corresponding general limitation found in the .9 section of Parts 862 to 892 of Title 21 of the CFR.

Table 2—Class II Devices
21 CFR Section | Device type | Exempt product code | Former product code (non-exempt) | Partial exemption limitation
862.3100 | Enzyme Immunoassay, Amphetamine | PUX | DKZ | Exemption is limited to test systems intended for employment and insurance testing that include a statement in their labeling that the device is intended solely for use in employment and insurance testing, and does not include test systems intended for Federal drug testing programs (e.g., programs run by the Substance Abuse and Mental Health Services Administration (SAMHSA), the Department of Transportation (DOT), and the U.S. military.)
862.3100 | Radioimmunoassay, Amphetamine | PUX | DJP | Exemption is limited to test systems intended for employment and insurance testing that include a statement in their labeling that the device is intended solely for use in employment and insurance testing, and does not include test systems intended for Federal drug testing programs (e.g., programs run by the Substance Abuse and Mental Health Services Administration (SAMHSA), the Department of Transportation (DOT), and the U.S. military.)
862.3100 | Thin Layer Chromatography, Amphetamine | PUX | DIT | Exemption is limited to test systems intended for employment and insurance testing that include a statement in their labeling that the device is intended solely for use in employment and insurance testing, and does not include test systems intended for Federal drug testing programs (e.g., programs run by the Substance Abuse and Mental Health Services Administration (SAMHSA), the Department of Transportation (DOT), and the U.S. military.)
862.3100 | Gas Chromatography, Amphetamine | PUX | DOD | Exemption is limited to test systems intended for employment and insurance testing that include a statement in their labeling that the device is intended solely for use in employment and insurance testing, and does not include test systems intended for Federal drug testing programs (e.g., programs run by the Substance Abuse and Mental Health Services Administration (SAMHSA), the Department of Transportation (DOT), and the U.S. military.)
862.3100 | Liquid Chromatography, Amphetamine | PUX | DNI | Exemption is limited to test systems intended for employment and insurance testing that include a statement in their labeling that the device is intended solely for use in employment and insurance testing, and does not include test systems intended for Federal drug testing programs (e.g., programs run by the Substance Abuse and Mental Health Services Administration (SAMHSA), the Department of Transportation (DOT), and the U.S. military.)
862.3100 | Free Radical Assay, Amphetamine | PUX | DJL | Exemption is limited to test systems intended for employment and insurance testing that include a statement in their labeling that the device is intended solely for use in employment and insurance testing, and does not include test systems intended for Federal drug testing programs (e.g., programs run by the Substance Abuse and Mental Health Services Administration (SAMHSA), the Department of Transportation (DOT), and the U.S. military.)
862.3150 | Enzyme Immunoassay, Barbiturate | PUY | DIS | Exemption is limited to test systems intended for employment and insurance testing that include a statement in their labeling that the device is intended solely for use in employment and insurance testing, and does not include test systems intended for Federal drug testing programs (e.g., programs run by the Substance Abuse and Mental Health Services Administration (SAMHSA), the Department of Transportation (DOT), and the U.S. military.)
862.3150 | Radioimmunoassay, Barbiturate | PUY | DKN | Exemption is limited to test systems intended for employment and insurance testing that include a statement in their labeling that the device is intended solely for use in employment and insurance testing, and does not include test systems intended for Federal drug testing programs (e.g., programs run by the Substance Abuse and Mental Health Services Administration (SAMHSA), the Department of Transportation (DOT), and the U.S. military.)
862.3150 | Thin Layer Chromatography, Barbiturate | PUY | DKX | Exemption is limited to test systems intended for employment and insurance testing that include a statement in their labeling that the device is intended solely for use in employment and insurance testing, and does not include test systems intended for Federal drug testing programs (e.g., programs run by the Substance Abuse and Mental Health Services Administration (SAMHSA), the Department of Transportation (DOT), and the U.S. military.)
862.3150 | Mercury Dithiazone, Colorimetry, Barbiturate | PUY | DJN | Exemption is limited to test systems intended for employment and insurance testing that include a statement in their labeling that the device is intended solely for use in employment and insurance testing, and does not include test systems intended for Federal drug testing programs (e.g., programs run by the Substance Abuse and Mental Health Services Administration (SAMHSA), the Department of Transportation (DOT), and the U.S. military.)
862.3150 | Hemagglutination Inhibition, Barbiturate | PUY | DLX | Exemption is limited to test systems intended for employment and insurance testing that include a statement in their labeling that the device is intended solely for use in employment and insurance testing, and does not include test systems intended for Federal drug testing programs (e.g., programs run by the Substance Abuse and Mental Health Services Administration (SAMHSA), the Department of Transportation (DOT), and the U.S. military.)
862.3150 | Gas Liquid Chromatography, Barbiturate | PUY | DMF | Exemption is limited to test systems intended for employment and insurance testing that include a statement in their labeling that the device is intended solely for use in employment and insurance testing, and does not include test systems intended for Federal drug testing programs (e.g., programs run by the Substance Abuse and Mental Health Services Administration (SAMHSA), the Department of Transportation (DOT), and the U.S. military.)
862.3150 | High Pressure Liquid Chromatography, Barbiturate | PUY | KZY | Exemption is limited to test systems intended for employment and insurance testing that include a statement in their labeling that the device is intended solely for use in employment and insurance testing, and does not include test systems intended for Federal drug testing programs (e.g., programs run by the Substance Abuse and Mental Health Services Administration (SAMHSA), the Department of Transportation (DOT), and the U.S. military.)
862.3170 | Enzyme Immunoassay, Benzodiazepine | PUZ | JXM | Exemption is limited to test systems intended for employment and insurance testing that include a statement in their labeling that the device is intended solely for use in employment and insurance testing, and does not include test systems intended for Federal drug testing programs (e.g., programs run by the Substance Abuse and Mental Health Services Administration (SAMHSA), the Department of Transportation (DOT), and the U.S. military.)
862.3170 | High Pressure Liquid Chromatography, Benzodiazepine | PUZ | LAA | Exemption is limited to test systems intended for employment and insurance testing that include a statement in their labeling that the device is intended solely for use in employment and insurance testing, and does not include test systems intended for Federal drug testing programs (e.g., programs run by the Substance Abuse and Mental Health Services Administration (SAMHSA), the Department of Transportation (DOT), and the U.S. military.)
862.3170 | Test, Benzodiazepine, Over The Counter | PUZ | NFV | Exemption is limited to test systems intended for employment and insurance testing that include a statement in their labeling that the device is intended solely for use in employment and insurance testing, and does not include test systems intended for Federal drug testing programs (e.g., programs run by the Substance Abuse and Mental Health Services Administration (SAMHSA), the Department of Transportation (DOT), and the U.S. military.)
862.3170 | Gas Chromatography, Benzodiazepine | PUZ | KZZ | Exemption is limited to test systems intended for employment and insurance testing that include a statement in their labeling that the device is intended solely for use in employment and insurance testing, and does not include test systems intended for Federal drug testing programs (e.g., programs run by the Substance Abuse and Mental Health Services Administration (SAMHSA), the Department of Transportation (DOT), and the U.S. military.)
862.3170 | Thin Layer Chromatography, Benzodiazepine | PUZ | LAB | Exemption is limited to test systems intended for employment and insurance testing that include a statement in their labeling that the device is intended solely for use in employment and insurance testing, and does not include test systems intended for Federal drug testing programs (e.g., programs run by the Substance Abuse and Mental Health Services Administration (SAMHSA), the Department of Transportation (DOT), and the U.S. military.)
862.3250 | Enzyme Immunoassay, Cocaine and Cocaine Metabolites | PVA | DIO | Exemption is limited to test systems intended for employment and insurance testing that include a statement in their labeling that the device is intended solely for use in employment and insurance testing, and does not include test systems intended for Federal drug testing programs (e.g., programs run by the Substance Abuse and Mental Health Services Administration (SAMHSA), the Department of Transportation (DOT), and the U.S. military.)
862.3250 | Radioimmunoassay, Cocaine Metabolite | PVA | KLN | Exemption is limited to test systems intended for employment and insurance testing that include a statement in their labeling that the device is intended solely for use in employment and insurance testing, and does not include test systems intended for Federal drug testing programs (e.g., programs run by the Substance Abuse and Mental Health Services Administration (SAMHSA), the Department of Transportation (DOT), and the U.S. military.)
862.3250 | Enzyme Immunoassay, Cocaine | PVA | JXO | Exemption is limited to test systems intended for employment and insurance testing that include a statement in their labeling that the device is intended solely for use in employment and insurance testing, and does not include test systems intended for Federal drug testing programs (e.g., programs run by the Substance Abuse and Mental Health Services Administration (SAMHSA), the Department of Transportation (DOT), and the U.S. military.)
862.3250 | Hemagglutination, Cocaine Metabolites (Benzoylecgonine) | PVA | DLN | Exemption is limited to test systems intended for employment and insurance testing that include a statement in their labeling that the device is intended solely for use in employment and insurance testing, and does not include test systems intended for Federal drug testing programs (e.g., programs run by the Substance Abuse and Mental Health Services Administration (SAMHSA), the Department of Transportation (DOT), and the U.S. military.)
862.3250 | Thin Layer Chromatography, Cocaine | PVA | DMN | Exemption is limited to test systems intended for employment and insurance testing that include a statement in their labeling that the device is intended solely for use in employment and insurance testing, and does not include test systems intended for Federal drug testing programs (e.g., programs run by the Substance Abuse and Mental Health Services Administration (SAMHSA), the Department of Transportation (DOT), and the U.S. military.)
862.3250 | Free Radical Assay, Cocaine | PVA | DIR | Exemption is limited to test systems intended for employment and insurance testing that include a statement in their labeling that the device is intended solely for use in employment and insurance testing, and does not include test systems intended for Federal drug testing programs (e.g., programs run by the Substance Abuse and Mental Health Services Administration (SAMHSA), the Department of Transportation (DOT), and the U.S. military.)
862.3250 | Gas Chromatography, Cocaine | PVA | DIN | Exemption is limited to test systems intended for employment and insurance testing that include a statement in their labeling that the device is intended solely for use in employment and insurance testing, and does not include test systems intended for Federal drug testing programs (e.g., programs run by the Substance Abuse and Mental Health Services Administration (SAMHSA), the Department of Transportation (DOT), and the U.S. military.)
862.3250 | Thin Layer Chromatography, Benzoylecgonine | PVA | DOM | Exemption is limited to test systems intended for employment and insurance testing that include a statement in their labeling that the device is intended solely for use in employment and insurance testing, and does not include test systems intended for Federal drug testing programs (e.g., programs run by the Substance Abuse and Mental Health Services Administration (SAMHSA), the Department of Transportation (DOT), and the U.S. military.)
862.3250 | High Pressure Liquid Chromatography, Cocaine and Cocaine Metabolites | PVA | LAC | Exemption is limited to test systems intended for employment and insurance testing that include a statement in their labeling that the device is intended solely for use in employment and insurance testing, and does not include test systems intended for Federal drug testing programs (e.g., programs run by the Substance Abuse and Mental Health Services Administration (SAMHSA), the Department of Transportation (DOT), and the U.S. military.)
862.3270 | High Pressure Liquid Chromatography, Codeine | PVB | LAE | Exemption is limited to test systems intended for employment and insurance testing that include a statement in their labeling that the device is intended solely for use in employment and insurance testing, and does not include test systems intended for Federal drug testing programs (e.g., programs run by the Substance Abuse and Mental Health Services Administration (SAMHSA), the Department of Transportation (DOT), and the U.S. military.)
862.3270 | Thin Layer Chromatography, Codeine | PVB | DLD | Exemption is limited to test systems intended for employment and insurance testing that include a statement in their labeling that the device is intended solely for use in employment and insurance testing, and does not include test systems intended for Federal drug testing programs (e.g., programs run by the Substance Abuse and Mental Health Services Administration (SAMHSA), the Department of Transportation (DOT), and the U.S. military.)
862.3270 | Gas Chromatography, Codeine | PVB | LAD | Exemption is limited to test systems intended for employment and insurance testing that include a statement in their labeling that the device is intended solely for use in employment and insurance testing, and does not include test systems intended for Federal drug testing programs (e.g., programs run by the Substance Abuse and Mental Health Services Administration (SAMHSA), the Department of Transportation (DOT), and the U.S. military.)
862.3580 | Radioimmunoassay, LSD (125-I) | PVC | DLB | Exemption is limited to test systems intended for employment and insurance testing that include a statement in their labeling that the device is intended solely for use in employment and insurance testing, and does not include test systems intended for Federal drug testing programs (e.g., programs run by the Substance Abuse and Mental Health Services Administration (SAMHSA), the Department of Transportation (DOT), and the U.S. military.)
862.3580 | Free Radical Assay, LSD | PVC | DOL | Exemption is limited to test systems intended for employment and insurance testing that include a statement in their labeling that the device is intended solely for use in employment and insurance testing, and does not include test systems intended for Federal drug testing programs (e.g., programs run by the Substance Abuse and Mental Health Services Administration (SAMHSA), the Department of Transportation (DOT), and the U.S. military.)
862.3610 | Gas Chromatography, Methamphetamine | PVD | LAF | Exemption is limited to test systems intended for employment and insurance testing that include a statement in their labeling that the device is intended solely for use in employment and insurance testing, and does not include test systems intended for Federal drug testing programs (e.g., programs run by the Substance Abuse and Mental Health Services Administration (SAMHSA), the Department of Transportation (DOT), and the U.S. military.)
862.3610 | Thin Layer Chromatography, Methamphetamine | PVD | DJC | Exemption is limited to test systems intended for employment and insurance testing that include a statement in their labeling that the device is intended solely for use in employment and insurance testing, and does not include test systems intended for Federal drug testing programs (e.g., programs run by the Substance Abuse and Mental Health Services Administration (SAMHSA), the Department of Transportation (DOT), and the U.S. military.)
862.3610 | High Pressure Liquid Chromatography, Methamphetamine | PVD | LAG | Exemption is limited to test systems intended for employment and insurance testing that include a statement in their labeling that the device is intended solely for use in employment and insurance testing, and does not include test systems intended for Federal drug testing programs (e.g., programs run by the Substance Abuse and Mental Health Services Administration (SAMHSA), the Department of Transportation (DOT), and the U.S. military.)
862.3610 | Test, Methamphetamine, Over The Counter | PVD | NGG | Exemption is limited to test systems intended for employment and insurance testing that include a statement in their labeling that the device is intended solely for use in employment and insurance testing, and does not include test systems intended for Federal drug testing programs (e.g., programs run by the Substance Abuse and Mental Health Services Administration (SAMHSA), the Department of Transportation (DOT), and the U.S. military.)
862.3620 | Enzyme Immunoassay, Methadone | PVE | DJR | Exemption is limited to test systems intended for employment and insurance testing that include a statement in their labeling that the device is intended solely for use in employment and insurance testing, and does not include test systems intended for Federal drug testing programs (e.g., programs run by the Substance Abuse and Mental Health Services Administration (SAMHSA), the Department of Transportation (DOT), and the U.S. military.)
862.3620 | Hemagglutination Inhibition, Methadone | PVE | DIW | Exemption is limited to test systems intended for employment and insurance testing that include a statement in their labeling that the device is intended solely for use in employment and insurance testing, and does not include test systems intended for Federal drug testing programs (e.g., programs run by the Substance Abuse and Mental Health Services Administration (SAMHSA), the Department of Transportation (DOT), and the U.S. military.)
862.3620 | Gas Chromatography, Methadone | PVE | DMB | Exemption is limited to test systems intended for employment and insurance testing that include a statement in their labeling that the device is intended solely for use in employment and insurance testing, and does not include test systems intended for Federal drug testing programs (e.g., programs run by the Substance Abuse and Mental Health Services Administration (SAMHSA), the Department of Transportation (DOT), and the U.S. military.)
862.3620 | Thin Layer Chromatography, Methadone | PVE | DKR | Exemption is limited to test systems intended for employment and insurance testing that include a statement in their labeling that the device is intended solely for use in employment and insurance testing, and does not include test systems intended for Federal drug testing programs (e.g., programs run by the Substance Abuse and Mental Health Services Administration (SAMHSA), the Department of Transportation (DOT), and the U.S. military.)
862.3620 | Liquid Chromatography, Methadone | PVE | DNT | Exemption is limited to test systems intended for employment and insurance testing that include a statement in their labeling that the device is intended solely for use in employment and insurance testing, and does not include test systems intended for Federal drug testing programs (e.g., programs run by the Substance Abuse and Mental Health Services Administration (SAMHSA), the Department of Transportation (DOT), and the U.S. military.)
862.3620 | Free Radical Assay, Methadone | PVE | DPP | Exemption is limited to test systems intended for employment and insurance testing that include a statement in their labeling that the device is intended solely for use in employment and insurance testing, and does not include test systems intended for Federal drug testing programs (e.g., programs run by the Substance Abuse and Mental Health Services Administration (SAMHSA), the Department of Transportation (DOT), and the U.S. military.)
862.3630 | Radioimmunoassay, Methaqualone | PVF | KXS | Exemption is limited to test systems intended for employment and insurance testing that include a statement in their labeling that the device is intended solely for use in employment and insurance testing, and does not include test systems intended for Federal drug testing programs (e.g., programs run by the Substance Abuse and Mental Health Services Administration (SAMHSA), the Department of Transportation (DOT), and the U.S. military.)
862.3640 | Thin Layer Chromatography, Morphine | PVG | DNK | Exemption is limited to test systems intended for employment and insurance testing that include a statement in their labeling that the device is intended solely for use in employment and insurance testing, and does not include test systems intended for Federal drug testing programs (e.g., programs run by the Substance Abuse and Mental Health Services Administration (SAMHSA), the Department of Transportation (DOT), and the U.S. military.)
862.3640 | Radioimmunoassay, Morphine (123-I), Goat Antibody Ammonium Sulfate Sep. | PVG | DOE | Exemption is limited to test systems intended for employment and insurance testing that include a statement in their labeling that the device is intended solely for use in employment and insurance testing, and does not include test systems intended for Federal drug testing programs (e.g., programs run by the Substance Abuse and Mental Health Services Administration (SAMHSA), the Department of Transportation (DOT), and the U.S. military.)
862.3640 | Fluorometry, Morphine | PVG | DJJ | Exemption is limited to test systems intended for employment and insurance testing that include a statement in their labeling that the device is intended solely for use in employment and insurance testing, and does not include test systems intended for Federal drug testing programs (e.g., programs run by the Substance Abuse and Mental Health Services Administration (SAMHSA), the Department of Transportation (DOT), and the U.S. military.)
862.3640 | Liquid Chromatography, Morphine | PVG | DPK | Exemption is limited to test systems intended for employment and insurance testing that include a statement in their labeling that the device is intended solely for use in employment and insurance testing, and does not include test systems intended for Federal drug testing programs (e.g., programs run by the Substance Abuse and Mental Health Services Administration (SAMHSA), the Department of Transportation (DOT), and the U.S. military.)
862.3640 | Gas Chromatography, Morphine | PVG | DMY | Exemption is limited to test systems intended for employment and insurance testing that include a statement in their labeling that the device is intended solely for use in employment and insurance testing, and does not include test systems intended for Federal drug testing programs (e.g., programs run by the Substance Abuse and Mental Health Services Administration (SAMHSA), the Department of Transportation (DOT), and the U.S. military.)
862.3640 | Hemagglutination Inhibition, Morphine | PVG | DLR | Exemption is limited to test systems intended for employment and insurance testing that include a statement in their labeling that the device is intended solely for use in employment and insurance testing, and does not include test systems intended for Federal drug testing programs (e.g., programs run by the Substance Abuse and Mental Health Services Administration (SAMHSA), the Department of Transportation (DOT), and the U.S. military.)
862.3640 | Free Radical Assay, Morphine | PVG | DOK | Exemption is limited to test systems intended for employment and insurance testing that include a statement in their labeling that the device is intended solely for use in employment and insurance testing, and does not include test systems intended for Federal drug testing programs (e.g., programs run by the Substance Abuse and Mental Health Services Administration (SAMHSA), the Department of Transportation (DOT), and the U.S. military.)
862.3640 | Radioimmunoassay, Morphine (3-H), Goat Antibody Ammonium Sulfate Sep. | PVG | DIQ | Exemption is limited to test systems intended for employment and insurance testing that include a statement in their labeling that the device is intended solely for use in employment and insurance testing, and does not include test systems intended for Federal drug testing programs (e.g., programs run by the Substance Abuse and Mental Health Services Administration (SAMHSA), the Department of Transportation (DOT), and the U.S. military.)
862.3640 | Radioimmunoassay, Morphine-Barbiturate (125-I), Goat Antibody | PVG | DNA | Exemption is limited to test systems intended for employment and insurance testing that include a statement in their labeling that the device is intended solely for use in employment and insurance testing, and does not include test systems intended for Federal drug testing programs (e.g., programs run by the Substance Abuse and Mental Health Services Administration (SAMHSA), the Department of Transportation (DOT), and the U.S. military.)
862.3650 | Enzyme Immunoassay, Opiates | PVH | DJG | Exemption is limited to test systems intended for employment and insurance testing that include a statement in their labeling that the device is intended solely for use in employment and insurance testing, and does not include test systems intended for Federal drug testing programs (e.g., programs run by the Substance Abuse and Mental Health Services Administration (SAMHSA), the Department of Transportation (DOT), and the U.S. military.)
862.3650 | Gas Chromatography, Opiates | PVH | DJF | Exemption is limited to test systems intended for employment and insurance testing that include a statement in their labeling that the device is intended solely for use in employment and insurance testing, and does not include test systems intended for Federal drug testing programs (e.g., programs run by the Substance Abuse and Mental Health Services Administration (SAMHSA), the Department of Transportation (DOT), and the U.S. military.)
862.3650 | Hemagglutination, Opiates | PVH | DLT | Exemption is limited to test systems intended for employment and insurance testing that include a statement in their labeling that the device is intended solely for use in employment and insurance testing, and does not include test systems intended for Federal drug testing programs (e.g., programs run by the Substance Abuse and Mental Health Services Administration (SAMHSA), the Department of Transportation (DOT), and the U.S. military.)
862.3650 | Thin Layer Chromatography, Opiates | PVH | LAI | Exemption is limited to test systems intended for employment and insurance testing that include a statement in their labeling that the device is intended solely for use in employment and insurance testing, and does not include test systems intended for Federal drug testing programs (e.g., programs run by the Substance Abuse and Mental Health Services Administration (SAMHSA), the Department of Transportation (DOT), and the U.S. military.)
862.3650 | Free Radical Assay, Opiates | PVH | DKT | Exemption is limited to test systems intended for employment and insurance testing that include a statement in their labeling that the device is intended solely for use in employment and insurance testing, and does not include test systems intended for Federal drug testing programs (e.g., programs run by the Substance Abuse and Mental Health Services Administration (SAMHSA), the Department of Transportation (DOT), and the U.S. military.)
862.3650 | High Pressure Liquid Chromatography, Opiates | PVH | LAH | Exemption is limited to test systems intended for employment and insurance testing that include a statement in their labeling that the device is intended solely for use in employment and insurance testing, and does not include test systems intended for Federal drug testing programs (e.g., programs run by the Substance Abuse and Mental Health Services Administration (SAMHSA), the Department of Transportation (DOT), and the U.S. military.)
862.3700 | Enzyme Immunoassay, Propoxyphene | PVI | JXN | Exemption is limited to test systems intended for employment and insurance testing that include a statement in their labeling that the device is intended solely for use in employment and insurance testing, and does not include test systems intended for Federal drug testing programs (e.g., programs run by the Substance Abuse and Mental Health Services Administration (SAMHSA), the Department of Transportation (DOT), and the U.S. military.)
862.3700 | Thin Layer Chromatography, Propoxyphene | PVI | DPN | Exemption is limited to test systems intended for employment and insurance testing that include a statement in their labeling that the device is intended solely for use in employment and insurance testing, and does not include test systems intended for Federal drug testing programs (e.g., programs run by the Substance Abuse and Mental Health Services Administration (SAMHSA), the Department of Transportation (DOT), and the U.S. military.)
862.3700 | Gas Chromatography, Propoxyphene | PVI | LAJ | Exemption is limited to test systems intended for employment and insurance testing that include a statement in their labeling that the device is intended solely for use in employment and insurance testing, and does not include test systems intended for Federal drug testing programs (e.g., programs run by the Substance Abuse and Mental Health Services Administration (SAMHSA), the Department of Transportation (DOT), and the U.S. military.)
862.3700 | High Pressure Liquid Chromatography, Propoxyphene | PVI | LAK | Exemption is limited to test systems intended for employment and insurance testing that include a statement in their labeling that the device is intended solely for use in employment and insurance testing, and does not include test systems intended for Federal drug testing programs (e.g., programs run by the Substance Abuse and Mental Health Services Administration (SAMHSA), the Department of Transportation (DOT), and the U.S. military.)
862.3870 | Enzyme Immunoassay, Cannabinoids | PVJ | LDJ | Exemption is limited to test systems intended for employment and insurance testing that include a statement in their labeling that the device is intended solely for use in employment and insurance testing, and does not include test systems intended for Federal drug testing programs (e.g., programs run by the Substance Abuse and Mental Health Services Administration (SAMHSA), the Department of Transportation (DOT), and the U.S. military.)
862.3870 | Reagents, Test, Tetrahydrocannabinol | PVJ | DKE | Exemption is limited to test systems intended for employment and insurance testing that include a statement in their labeling that the device is intended solely for use in employment and insurance testing, and does not include test systems intended for Federal drug testing programs (e.g., programs run by the Substance Abuse and Mental Health Services Administration (SAMHSA), the Department of Transportation (DOT), and the U.S. military.)
862.3870 | Radioimmunoassay, Cannabinoid(S) | PVJ | LAT | Exemption is limited to test systems intended for employment and insurance testing that include a statement in their labeling that the device is intended solely for use in employment and insurance testing, and does not include test systems intended for Federal drug testing programs (e.g., programs run by the Substance Abuse and Mental Health Services Administration (SAMHSA), the Department of Transportation (DOT), and the U.S. military.)
862.3910 | High Pressure Liquid Chromatography, Tricyclic Antidepressant Drugs | PVK | LFI | Exemption is limited to test systems intended for employment and insurance testing that include a statement in their labeling that the device is intended solely for use in employment and insurance testing, and does not include test systems intended for Federal drug testing programs (e.g., programs run by the Substance Abuse and Mental Health Services Administration (SAMHSA), the Department of Transportation (DOT), and the U.S. military.)
862.3910 | U.V. Spectrometry, Tricyclic Antidepressant Drugs | PVK | LFH | Exemption is limited to test systems intended for employment and insurance testing that include a statement in their labeling that the device is intended solely for use in employment and insurance testing, and does not include test systems intended for Federal drug testing programs (e.g., programs run by the Substance Abuse and Mental Health Services Administration (SAMHSA), the Department of Transportation (DOT), and the U.S. military.)
862.3910 | Thin Layer Chromatography, Tricyclic Antidepressant Drugs | PVK | MLK | Exemption is limited to test systems intended for employment and insurance testing that include a statement in their labeling that the device is intended solely for use in employment and insurance testing, and does not include test systems intended for Federal drug testing programs (e.g., programs run by the Substance Abuse and Mental Health Services Administration (SAMHSA), the Department of Transportation (DOT), and the U.S. military.)
866.5750 | System, Test, Radioallergosorbent (RAST) Immunological | PUW | DHB | Exemption is limited to devices classified under 21 CFR 866.5750 that are intended to detect any of the allergens included in table 3 of this document.
868.2385 | Analyzer, Nitrogen Dioxide | PUG | MRQ | Exemption is limited to standalone nitrogen dioxide analyzers and not those that are components of nitric oxide delivery systems intended to monitor nitrogen dioxide levels during inhaled nitric oxide therapy.
870.1330 | Wire, Guide, Catheter | PTL | DQX | Exemption is limited to accessory torque devices that are manually operated, non-patient contacting, and intended to manipulate non-cerebral vascular guide wires.
870.1650 | Syringe, Balloon Inflation | PTM | MAV | Exemption is limited to non-patient contacting balloon inflation syringes intended only to inflate/deflate balloon catheters and monitor pressure within the balloon.
870.2770 | Analyzer, Body Composition | PUH | MNW | Exemption is limited to body composition analyzers which are not intended to diagnose or treat any medical condition.
870.4400 | Reservoir, Blood, Cardiopulmonary Bypass | PTN | DTN | Exemption is limited to cardiopulmonary bypass blood reservoirs that do not contain defoamers or blood filters.
874.1090 | Tester, Auditory Impedance | PTO | ETY | Exemption is limited to auditory impedance testers that are in compliance with FDA-recognized consensus standard ANSI S3.39.
874.1090 | Tympanometer | PTP | NAS | Exemption is limited to tympanometers that are in compliance with FDA-recognized consensus standard ANSI S3.39.
876.1500 | Endoscopic Magnetic Retriever | PTQ | FCC | Exemption is limited to endoscopic magnetic retrievers intended for single use.
876.1500 | Scissors For Cystoscope | PTR | KGD | Exemption is limited to sterile scissors for cystoscope intended for single use.
876.1500 | Endoscopic Grasping/Cutting Instrument, Non-Powered | PTS | OCZ | Exemption is limited to disposable, non-powered endoscopic grasping/cutting instruments intended for single use.
876.5010 | Catheter, Biliary, Surgical | PTT | GCA | Exemption is limited to surgical biliary catheters that do not include a balloon component.
876.5630 | Catheter, Peritoneal, Long-Term Indwelling | PTU | FJS | Exemption is limited to non-patient contacting catheter finger grips intended for single use.
876.5630 | Catheter, Peritoneal Dialysis, Single Use | PTV | FKO | Exemption is limited to non-patient contacting catheter finger grips intended for single use.
876.5630 | System, Peritoneal, Automatic Delivery | PTW | FKX | Exemption is limited to continuous ambulatory peritoneal dialysis (CAPD) belts and catheter stands that do not include weigh scales.
878.4370 | Drape, Surgical | PUI | KKX | Exemption is limited to surgical drapes that do not include an antimicrobial agent.
878.4495 | Suture, Nonabsorbable, Steel, Monofilament And Multifilament, Sterile | PTX | GAQ | Exemption is limited to steel monofilament sutures that are uncoated and do not incorporate barbs.
882.1470 | Computerized Cognitive Assessment Aid | PTY | PKQ | Exemption is limited to computerized cognitive assessment aids that are not intended for diagnostic assessment of specific diseases or conditions and rely on inputs from visual cues, auditory cues, and/or functional use of the hand.
884.1630 | Colposcope (and Colpomicroscope) | PTZ | HEX | Exemption is limited to standard colposcopes (and colpomicroscopes) that use only a white light source, do not use filters other than a green filter, do not include image analysis software, and are not smartphone-based.
884.4530 | Tenaculum, Uterine | PUA | HDC | Exemption is limited to sterile uterine tenaculum devices that do not use suction and are intended for single use.
884.6120 | Accessory, Assisted Reproduction | PUB | MQG | Exemption is limited to simple embryo incubators with temperature, gas, and humidity control only; syringe pumps; collection tube warmers; dish/plate/microscope stage warmers; and controlled-rate cryopreservation freezers.
884.6130 | Microtools, Assisted Reproduction (Pipettes) | PUC | MQH | Exemption is limited to assisted reproduction microtools (pipettes) manufactured from glass.
884.6160 | Labware, Assisted Reproduction | PUD | MQK | Exemption is limited to dishes and plates that are intended for general assisted reproduction technology procedures.
886.1850 | Biomicroscope, Slit-Lamp, AC-Powered | PUE | HJO | Exemption is limited to slit-lamp, AC-powered biomicroscopes intended only for the visual examination of the anterior segment of the eye, are classified as Group 1 per FDA-recognized consensus standard ANSI Z80.36, do not provide any quantitative output, and are not intended for screening or automated diagnostic indications.
886.3320 | Ocular Peg | PUF | MQU | Exemption is limited to ocular pegs supplied sterile.

In table 2, FDA included devices classified under § 866.5750 (Radioallergosorbent (RAST) immunological test system). FDA does not believe that all devices classified under this regulation meet the exemption criteria from premarket notification requirements. The devices listed in table 3 are also classified under § 866.5750, but this subset no longer requires premarket notification under section 510(k) of the FD&C Act, subject to the general limitations to the exemptions found in § 866.9. While the non-exempt devices classified under § 866.5750 will retain product code “DHB”, these devices listed in table 3 are reassigned product code “PUW.”

Table 3—Class II Devices
[§ 866.5750—Radioallergosorbent (RAST) Immunological Test Systems]
Allergen code | Allergen product | Source (taxonomical name)
Grass Pollens
g1 | Sweet vernal grass | Anthoxanthum odoratum.
g3 | Cocksfoot grass, Orchard grass | Dactylis glomerata.
g4 | Meadow fescue | Festuca elatior.
g5 | Rye-grass (perennial rye grass) | Lolium perenne.
g7 | Common reed (common reed grass) | Phragmites communis.
g8 | Meadow grass, Kentucky blue (June grass) | Poa pratensis.
g9 | Redtop, Bentgrass | Agrostis stolonifera Agrostis gigantea (Agrostis alba).
g11 | Brome grass | Bromus inermis.
g12 | Cultivated rye (cultivated rye grass) | Secale cereale.
g13 | Velvet grass | Holcus lanatus.
g14 | Cultivated oat (cultivated oat grass) | Avena sativa.
g15 | Cultivated wheat (cultivated wheat grass) | Triticum aestivum (Triticum spp.).
g16 | Meadow foxtail (meadow foxtail grass) | Alopecurus pratensis.
g17 | Bahia grass | Paspalum notatum.
g24 | Wheat grass, Western | Agropyron smithii (Elymus smithii).
g30 | Bluegrass, annual | Poa annua.
g70 | Wild rye grass | Elymus triticoides Elymus condensatus.
g71 | Canary grass | Phalaris arundinacea.
g201 | Barley, cultivated | Hordeum vulgare.
g202 | Maize, corn (cultivated corn) | Zea mays.
g203 | Salt grass | Distichlis spicata.
g204 | False oat-grass | Arrhenatherum elatius.
g216 | Cyn d 1 | Cynodon dactylon.
g701 | Phl p 1.0102, Phl p 5.0101 | Phleum pratense.
g702 | Phl p 7.0101 | Phleum pratense.
g703 | Phl p 12.0101 | Phleum pratense.
Weed Pollens
w2 | Western ragweed | Ambrosia psilostachya.
w4 | False ragweed | Ambrosia acanthicarpa (Franseria acanthicarpa).
w5 | Wormwood | Artemisia absinthium Artemisia annua.
w6 | Mugwort | Artemisia vulgaris.
w7 | Marguerite, ox-eye daisy | Chrysanthemum leucanthemum.
w8 | Dandelion | Taraxacum vulgare Taraxacum officinale.
w9 | Plantain (English), Ribwort | Plantago lanceolata.
w10 | Goosefoot, lamb's quarters | Chenopodium album.
w11 | Saltwort (prickly), Russian thistle | Salsola kali (Salsola pestifer).
w12 | Goldenrod | Solidago virgaurea (Solidago spp.)
w13 | Cocklebur, common | Xanthium commune.
w14 | Common pigweed (rough pigweed) | Amaranthus retroflexus.
w15 | Scale, Lenscale | Atriplex lentiformis.
w16 | Rough marsh elder | Iva ciliate Iva annua.
w17 | Firebush (Kochia) | Kochia scoparia.
w18 | Sheep sorrel | Rumex acetosella.
w19 | Wall pellitory | Parietaria officinalis.
w20 | Nettle (Common stinging nettle) | Urtica dioica.
w21 | Wall pellitory | Parietaria judaica.
w22 | Japanese hop (careless weed) | Humulus japonicas (Humulus scandens).
w23 | Yellow dock, Yellow dockweed | Rumex crispus.
w24 | Spiny pigweed | Amaranthus spinosus.
w27 | Carnation | Dianthus spp.
w28 | Rose | Rosa rugosa.
w33 | Clover | Trifolium pratense.
w35 | Mexican tea | Chenopodium ambrosioides.
w36 | Rabbit bush | Ambrosia deltoidea (Franseria deltoides).
w37 | Salt bush, annual | Atriplex wrightii.
w39 | Water hemp, Western | Amaranthus rudis (Acnida tamariscina).
w41 | Burrobrush | Hymenoclea salsola.
w42 | Poverty weed
w43 | Common sagebrush | Artemisia tridentata.
w45 | Alfalfa | Medicago sativa.
w46 | Dog fennel | Eupatorium capillifolium.
w53 | Geranium | Geranium spp.
w67 | Groundsel bush | Baccharis halimifolia.
w69 | Iodine bush | Allenrolfea occidentalis.
w70 | Ragweed, slender | Ambrosia confertiflora.
w75 | Wing scale (wingscale) | Atriplex canescens.
w82 | Careless weed | Amaranthus palmeri Amaranthus hybridus.
w90 | Japanese hop | Humulus japonicas (Humulus scandens).
w203 | Rape (rape pollen) | Brassica napus.
w204 | Sunflower | Helianthus annuus.
w206 | Camomile | Matricaria chamomilla.
w207 | Lupin | Lupinus spp.
w210 | Sugar-beet | Beta vulgaris.
w211 | Par j 2.0101 | Parietaria judaica.
w231 | Art v 1 | Artemisia vulgaris (Mugwort).
w232 | Sal k 1 | Salsola kali.
w233 | Art v 3 | Artemisa vulgaris (LTP, Mugwort).
w234 | Pla l 1 | Plantago lanceolata.
w235 | Che a 1.0101 | Chenopodium album.
w236 | Mer a 1.0101 | Mercurialis annua.
a753 | Art v 1 | Artemisia vulgaris (Mugwort weed).
Tree Pollens
t1 | Box-elder (Maple) | Acer negundo. Acer saccharum.
t2 | Gray alder, speckled alder (alder) | Alnus incana.
t4 | Hazel, hazelnut | Corylus avellana. Corylus americana.
t5 | American beech (beech) | Fagus grandifolia. (Fagus americana).
t6 | Mountain juniper, Mountain cedar | Juniperus ashei (Juniperus sabinoides).
t8 | Elm | Ulmus americana.
t9 | Olive | Olea europaea.
t10 | Walnut | Juglans californica Juglans nigra.
t11 | Maple leaf sycamore, London plane, Plane tree | Platanus acerifolia.
t61 | Sycamore | Platanus occidentalis.
t12 | Willow | Salix caprea Salix nigra.
t14 | Cottonwood (Eastern Cottonwood/Black Cottonwood) | Populus deltoides.
t15 | White ash | Fraxinus americana.
t16 | White pine | Pinus strobus.
t18 | Eucalyptus, gum-tree | Eucalyptus globulus. (Eucalyptus spp.).
t19/t26 | Acacia | Acacia longifolia (Acacia spp.).
t20 | Mesquite | Prosopis glandulosa/ Prosopis juliflora.
t21 | Melaleuca, cajeput tree | Melaleuca quinquenervia (Melaleuca leucadendron).
t22 | Pecan, hickory | Carya illinoinensis (Carya pecan).
t23 | Italian/Mediterranean/funeral cypress | Cupressus sempervirens.
t24 | Japanese cypress | Chamaecyparis obtusa (Chamaecyparis spp.).
t25 | Ash | Fraxinus excelsior.
t27 | Maple, red | Acer rubrum.
t29 | Acacia | Acacia spp.
t30 | Birch, white | Betula populifolia.
t32 | Willow, black | Salix nigra.
t33 | Ash, Arizona | Fraxinus velutina.
t35 | Cedar, salt | Tamarix gallica.
t37 | Bald cypress (white bald cypress) | Taxodium distichum.
t38 | Elm, Chinese/Siberian | Ulmus pumila.
t40 | Hazelnut tree | Corylus americana.
t41 | White hickory | Carya alba (Carya tomentosa).
t42 | Oak, red | Quercus rubra.
t43 | Loblolly pine | Pinus taeda.
t44 | Hackberry | Celtis occidentalis.
t45 | Cedar elm | Ulmus crassifolia.
t47 | Juniper, one seed | Juniperus monosperma.
t48 | Pine, lodgepole | Pinus contorta.
t49 | Pine, ponderosa | Pinus ponderosa.
t50 | Beech, European | Fagus sylvatica.
t51 | Tree of Heaven | Ailanthus altissima.
t52 | Western white pine | Pinus monticola.
t54 | Russian olive | Elaeagnus angustifolia.
t55 | Scotch broom | Cytisus scoparius.
t56 | Bayberry | Myrica cerifera.
t57 | Red cedar | Juniperus virginiana.
t60 | Western juniper | Juniperus occidentalis.
t61 | Sycamore | Platanus occidentalis.
t70 | Mulberry (white mulberry) | Morus alba.
t71 | Red mulberry | Morus rubra.
t72 | Queen palm | Arecastrum romanzoffiamon.
t73 | Australian pine | Casuarina equisetifolia.
t77 | Oak mix (red, white, black) | Quercus spp.
t80 | Japanese cypress | Chamaecyparis obtusa.
t81 | Japanese alder | Alnus japonica.
t83 | Mango tree | Mangifera indica.
t90 | Walnut, black | Juglans nigra.
t96 | Poplar, white (poplar) | Populus alba.
t103/ t218 | Virginia live oak (live oak) | Quercus virginiana.
t105 | Pepper tree | Schinus molle.
t110 | Orange tree | Citrus sinensis.
t201 | Spruce, Norway spruce | Picea abies (Picea excelsa).
t202 | Alder, smooth | Alnus incana spp. Rugosa (Alnus rugosa).
t203 | Horse chestnut | Aesculus hippocastanum.
t205 | Elder | Sambucus nigra.
t206 | Chestnut | Castanea sativa.
t207 | Douglas fir | Pseudotsuga menziesii (Pseudotsuga taxifolia).
t208 | Linden | Tilia cordata.
t209 | Horn beam | Carpinus betulus.
t210 | Privet | Ligustrum vulgare.
t211 | Sweet gum | Liquidambar styraciflua.
t212 | Cedar | Libocedrus decurrens.
t213 | Pine | Pinus radiata.
t214 | Date palm | Phoenix canariensis.
t215 | Lilac | Syringa vulgaris.
t217 | Pepper tree | Schinus molle.
t217 | Red alder | Alnus rubra.
t218 | Virginia live oak | Quercus virginiana.
t218 | Bayberry (bayberry/sweet gale) | Myrica gale.
t219 | Palo verde | Cercidium floridum.
t219 | Red cedar | Juniperus virginiana.
t220 | Bet v 4 | Betula verrucosa (Birch).
t221 | Bet v 2.0101, Bet v 4 | Betula verrucosa (Birch).
t222 | Cypress (Arizona cypress) | Cupressus arizonica.
t223 | Oil palm | Elaeis guineensis.
t224 | Ole e 1 | Olea europaea.
t225 | Bet v 6 | Betula verrucosa (Birch).
t226 | Cup a 1 | Cupressus arizonica.
t227 | Ole e 7 | Olea Europaea.
t228 | Aspen, quaking | Populus tremuloides.
t229 | Eastern hemlock | Tsuga canadensis.
t230 | Redwood (sequoia) | Sequoia sempervirens.
t232 | Pussy willow | Salix discolor.
t240 | Ole e 9.0101 | Olea Europaea.
t241 | Pla a 1.0101 | Platanus acerifolia.
t242 | Pla a 2 | Platanus acerifolia.
t243 | Pla a 3.0101 | Platanus acerifolia.
t244 | Cor a 1.0103 | Corylus avellana.
t245 | Aln g 1.0101 | Alnus glutinosa.
t246 | Cry j 1 | Cryptomeria japonica.
t280 | Locust tree | Robinia pseudoacacia.
t401 | Brazilian peppertree | Schinus terebinthifolius.
t402 | Mastic tree | Pistacia lentiscus.
t404 | Tree of heaven | Ailanthus altissima.
t406 | Date palm | Phoenix dactylifera.
a482 | Ole e 1 | Olea europaea (Olive Oil).
Mites
d207 | Blo t 5.0101 | Blomia tropicalis.
d208 | Lep d 2.0101 | Lepidoglyphus destructor.
Microorganisms, Molds, Yeast
m1 | Penicillium chrysogenum (Penicillium notatum) | Penicillium chrysogenum (Penicillium notatum).
m2 | Cladosporium herbarum (Hormodendrum) | Cladosporium herbarum (Hormodendrum).
m3 | Aspergillus fumigatus | Aspergillus fumigatus.
m4 | Mucor racemosus | Mucor racemosus.
m5 | Candida albicans | Candida albicans.
m7 | Botrytis cinerea | Botrytis cinerea.
m8 | Drechslera halodes (Setomelanomma rostrata, Helminthosporium halodes, Helminthosporium interseminatum) | Drechslera halodes (Setomelanomma rostrata, Helminthosporium halodes).
m9 | Fusarium moniliforme (Fusarium proliferatum) | Fusarium moniliforme (Fusarium proliferatum).
m10 | Stemphylium botryosum | Stemphylium herbarum (Stemphylium botryosum).
m11 | Rhizopus nigricans | Rhizopus nigricans.
m12 | Aureobasidium pullulans | Aureobasidium pullulans.
m13 | Phoma betae | Phoma betae.
m14 | Epicoccum purpurascens | Epicoccum purpurascens (Epicoccum nigrum).
m15 | Trichoderma viride | Trichoderma viride.
m16 | Curvularia lunata | Curvularia lunata Curvularia specifera (K923044).
m17 | Cladosporium fulvum | Cladosporium fulvum.
m18 | Fusarium culmorum | Fusarium culmorum.
m19 | Aspergillus versicolor | Aspergillus versicolor.
m20 | Mucor mucedo | Mucor mucedo.
m21 | Aspergillus clavatus | Aspergillus clavatus.
m22 | Micropolyspora faeni | Saccharopolyspora rectivirgula (Micropolyspora faeni).
m23 | Thermoactinomyces vulgaris | Thermoactinomyces vulgaris.
m24 | Stachybotrys atra | Stachybotrys chartarum (Stachybotrys atra).
m24 | Paecilomyces spp. | Paecilomyces spp.
m25 | Aspergillus versicolor | Aspergillus versicolor.
m25 | Penicillium brevicompactum | Penicillium brevicompactum.
m26 | Cladosporium cladosporioides | Cladosporium cladosporioides.
m26 | Penicillium citrinum | Penicillium citrinum.
m27 | Penicillium spp. | Penicillium spp.
m29 | Aspergillus repens | Aspergillus repens.
m30 | Penicillium roqueforti | Penicillium roqueforti.
m32 | Cladosporium cladosporioides | Cladosporium cladosporioides.
m34 | Serpula lacrymans | Serpula lacrymans.
m36 | Aspergillus terreus | Aspergillus terreus.
m37 | Trichophyton mentagrophytes | Trichophyton mentagrophytes.
m40 | Aspergillus amstelodami | Aspergillus amstelodami.
m43 | Saccharomyces carlsberg | Saccharomyces carlsbergensis.
m44 | Saccharomyces cerevisiae | Saccharomyces cerevisiae.
m45 | Hormodendrum hordei | Hormodendrum hordei.
m46 | Bipolaris spicifera | Bipolaris spicifera.
m47 | Aspergillus nidulans | Aspergillus nidulans.
m48 | Aspergillus oryzae | Aspergillus oryzae.
m49 | Fusarium oxysporum | Fusarium oxysporum.
m50 | Micropolyspora faeni | Saccharopolyspora rectivirgula (Micropolyspora faeni).
m51 | Thermoactinomyces vulgaris | Thermoactinomyces vulgaris.
m53 | Microspora canis | Microsporum canis (Microspora canis).
m54 | Aspergillus flavus | Aspergillus flavus.
m63 | Helminthosporium intersemin | Helminthosporium intersemin.
m66 | Mucor plumbeus | Mucor plumbeus.
m67 | Mycogone | Mycogone perniciosa.
m68 | Nigrospora oryzae | Nigrospora oryzae.
m69 | Rhodotorula | Rhodotorula rubra (Rhodotorula mucilaginosa).
m70 | Malassezia furfur (Pityrosporum orbiculare) | Malassezia furfur (Pityrosporum orbiculare).
m71 | Spondylocladium | Spondylocladium spp.
m72 | Epidermophyton | Epidermophyton floccosum.
m73 | Epicoccum nigrum | Epicoccum purpurascens (Epicoccum nigrum).
m80 | Staphylococcal enterotoxin A (Sta a SEA) | Staphylococcus aureus.
m80 | Helminthosporium spp. | Helminthosporium spp.
m81 | Staphylococcal enterotoxin B (Sta a SEB) | Staphylococcus aureus.
m88 | Stemphylium solani | Stemphylium solani.
m93 | Gliocladium fimbriatum | Gliocladium fimbriatum.
m94 | Phycomyces blakesleeanus | Phycomyces blakesleeanus.
m201 | Tilletia tritici (Ustilago nuda, Ustilago tritici) (Barley smut) | Tilletia tritici (Ustilago nuda, Ustilago tritici).
m202 | Acremonium kiliense (Cephalosporium acremonium) | Acremonium kiliense (Cephalosporium acremonium).
m203 | Trichosporon pullulans | Trichosporon pullulans.
m204 | Ulocladium chartarum | Ulocladium chartarum.
m205 | Trichophyton rubrum | Trichophyton rubrum.
m207 | Aspergillus niger | Aspergillus niger.
m208 | Chaetomium globosum | Chaetomium globosum.
m209 | Penicillium frequentans | Penicillium glabrum (Penicillium frequentans).
m209 | Stachybotrys chartarum | Stachybotrys chartarum (Stachybotrys atra).
m210 | Trichophyton mentagrophytes var. goetzii | Trichophyton mentagrophytes var. goetzii.
m211 | Trichophyton mentagrophytes var. interdigitale | Trichophyton mentagrophytes var. interdigitale.
m211 | Oat smut | Ustilago avenae.
m212 | Micropolyspora faeni | Saccharopolyspora rectivirgula (Micropolyspora faeni).
m212 | Geotrichum candidum | Geotrichum candidum.
m213 | Bermuda grass smut | Ustilago cynodontis.
m214 | Johnson grass smut | Sphacelotheca cruenta.
m215 | Corn smut | Ustilago maydis.
m218 | Asp f 1.0101 | Aspergillus fumigatus.
a3050 | Asp r 1 | Aspergillus restrictus.
m219 | Asp f 2 | Aspergillus fumigatus.
m220 | Asp f 3.0101 | Aspergillus fumigatus.
m221 | Asp f 4 | Aspergillus fumigatus.
m222 | Asp f 6.0101 | Aspergillus fumigatus.
m223 | Staphylococal enterotoxin C (Sta a SEC) | Staphylococus aureus.
m224 | Staphylococcal enterotoxin D (Sta a SED) | Staphylococcus aureus.
m226 | Staphylococcal enterotoxin TSST (Sta a TSST) | Staphylococcus aureus.
m227 | Malassezia spp. (Pityrosporum spp.) | Malassezia spp. (Pityrosporum spp.).
m228 | Aspergillus flavus.
m229 | Alt a 1.0101 | Alternaria alternata (Alternaria tenuis).
m230 | Alt a 6.0101 | Alternaria alternata (Alternaria tenuis).
m231 | Cla h 8.0101 | Cladosporium herbarum (Hormodendrum).
m300 | Eurotium spp. | Eurotium spp.
m304 | Aspergillus oryzae | Aspergillus oryzae.
m305 | Penicillium brevicompactum | Penicillium brevicompactum.
m309 | Aspergillus terreus | Aspergillus terreus.
m310 | Aspergillus nidulans | Aspergillus nidulans.
m311 | Aspergillus flavus | Aspergillus flavus.
m312 | Aspergillus clavatus | Aspergillus clavatus.
Epidermal & Animal
e6 | Guinea pig epithelium | Cavia porcellus.
e7 | Pigeon droppings | Columba palumbus Columba livia.
e25 | Chicken serum | Gallus domesticus (Gallus gallus domesticus; Gallus spp.).
e26 | Parrot serum | Psittacoidea spp.
e62 | Camel | Camelus dromedaries.
e70 | Goose feathers | Anser anser.
e71 | Mouse epithelium | Mus musculus (Mus spp.).
e73 | Rat epithelium | Rattus norvegicus.
e74 | Rat urine proteins | Rattus norvegicus Rattus rattus.
e75 | Rat serum proteins | Rattus norvegicus Rattus rattus.
e76 | Mouse serum proteins | Mus musculus (Mus spp.).
e77 | Budgerigar droppings | Melopsittacus undulatus.
e78 | Budgerigar feathers | Melopsittacus undulatus.
e79 | Budgerigar serum proteins | Melopsittacus undulatus.
e80 | Goat epithelium | Capra hircus.
e81 | Sheep epithelium | Ovis aries (Ovis spp.).
e82 | Rabbit epithelium | Oryctolagus cuniculus (Oryctolagus spp.).
e83 | Swine epithelium | Sus scrofa (Sus scrofa domesticus; Sus spp.).
e84 | Hamster epithelium | Cricetus cricetus, Mesocricetus auratus, and Phodopus sungorus.
e85 | Chicken feathers | Gallus domesticus (Gallus gallus domesticus; Gallus spp.).
e86 | Duck feathers | Anas platyrhynchos.
e87 | Rat epithelium, serum proteins, and urine proteins | Rattus norvegicus Rattus rattus.
e88 | Mouse epithelium, serum proteins, and urine proteins (mouse) | Mus musculus (Mus spp.).
e89 | Turkey feathers | Meleagris gallopavo.
e90 | Budgerigar serum proteins, feathers, and droppings | Melopsittacus undulatus.
e91 | Pigeon serum proteins, feathers, and droppings | Streptopelia roseogrisea Psittacidae spp.
e92 | Parrot serum proteins, feathers, and droppings | Ara spp.
e93 | Pigeon serum proteins | Streptopelia roseogrisea.
e94 | Fel d 1.0101 | Felis domesticus.
a345 | Fel d 1 | Felis domesticus.
e98 | Parrot droppings | Psittacoidea spp.
e101 | Can f 1.0101 | Canis familiaris (Canis domesticus).
a174 | Can f 1 | Canis familiaris (Canis domesticus).
e102 | Can f 2.0101 | Canis familiaris (Canis domesticus).
e196 | Parakeet feathers | Nymphicus hollandicus.
e197 | Parakeet droppings | Nymphicus hollandicus.
e198 | Parakeet serum | Nymphicus hollandicus.
e199 | Canary bird serum | Serinus canarius.
e200 | Canary bird droppings | Serinus canarius.
e201 | Canary bird feathers (Canary feathers) | Serinus canarius.
e202 | Reindeer epithelium | Rangifer tarandus.
e203 | Mink epithelium | Mustela spp.
e204 | Bos d 6 | Bos domesticus (Bos taurus; Bos spp.).
e205 | Horse, serum proteins | Equus caballus (Equus spp.).
e206 | Rabbit, serum proteins | Oryctolagus cuniculus (Oryctolagus spp.).
e208 | Chinchilla epithelium | Chinchilla laniger.
e209 | Gerbil epithelium | Meriones unguiculatus.
e210 | Fox epithelium | Vulpes vulpes.
e211 | Rabbit, urine proteins | Oryctolagus cuniculus (Oryctolagus spp.).
e212 | Swine, urine proteins | Sus scrofa (Sus scrofa domesticus; Sus spp.).
e213 | Parrot feathers | Ara spp.
e214 | Finch feathers | Lonchura domestica.
e215 | Pigeon feathers | Streptopelia roseogrisea (Streptopelia spp.) Columbia spp.
e216 | Deer epithelium | Dama dama.
e217 | Ferret epithelium | Mustela putorius.
e218 | Chicken droppings | Gallus domesticus (Gallus gallus domesticus; Gallus spp.).
e219 | Chicken, serum proteins | Gallus domesticus (Gallus gallus domesticus; Gallus spp.).
e220 | Fel d 2, Cat serum albumin | Felis domesticus.
e221 | Can f 3 | Canis familiaris (Canis domesticus) (Dog serum albumin).
e222 | Swine serum albumin (Sus s PSA) | Sus scrofa (Sus scrofa domesticus; Sus spp.).
e225 | Lovebird feathers | Psittacoidea agapomis.
e226 | Can f 5.0101 | Canis familiaris.
e227 | Equ c 1.0101 | Equus caballus.
e228 | Fel d 4.0101 | Felis domesticus.
e230 | Equ c 3 | Equus caballus.
e231 | Mus m 1 | Mus musculus.
Food
f9 | Rice | Oryza sativa.
f12 | Pea (green pea) | Pisum sativum.
f15 | White bean | Phaseolus vulgaris.
f19 | Cayenne pepper | Capsicum frutescens (Capsicum annum).
f21 | Sugar cane | Saccharum officinarum.
f22 | Raspberry | Rubus idaeus.
f26 | Pork | Sus scrofa (Sus scrofa domesticus; Sus spp.).
f29 | Watermelon | Citrullus lanatus (Citrullus vulgaris).
f31 | Carrot | Daucus carota.
f32 | Oyster mushroom | Pleurotus ostreatus.
f33 | Orange | Citrus sinensis.
f35 | Potato | Solanum tuberosum.
f43 | Mother's milk | Homo sapiens.
f44 | Strawberry | Fragaria vesca (Fragaria spp.).
f45 | Yeast, baker's | Saccharomyces cerevisiae.
f46 | Pepper, Red | Capsicum annuum.
f47 | Garlic | Allium sativum.
f48 | Onion | Allium cepa.
f49 | Apple | Malus x domestica (Malus spp.).
f51 | Bamboo shoot | Phyllostachys pubescens.
f52 | Cacao/chocolate | Theobroma cacao.
f54 | Sweet potato | Ipomoea batatas.
f55 | Common millet | Panicum miliaceum.
f56 | Foxtail millet | Setaria italica.
f57 | Japanese millet | Echinochloa crus-galli.
f58 | Pacific squid | Todarodes pacificus.
f59 | Octopus | Octopus vulgaris (Octopus spp.).
f63 | Kefir | NA.
f67 | Parmesan cheese | NA.
f81 | Cheese, cheddar type | NA.
f82 | Cheese, mold type | NA.
f83 | Chicken | Gallus domesticus (Gallus gallus domesticus; Gallus spp.).
f86 | Parsley | Petroselinum crispum.
f87 | Melon | Cucumis melo Cucumis melo + Citrullus lanatus.
f88 | Mutton (lamb) | Ovis aries (Ovis spp.).
f90 | Malt | Hordeum vulgare.
f92 | Banana | Musa spp.
f93 | Cacao | Theobroma cacao.
f94 | Pear | Pyrus communis (Pyrus spp.).
f97 | Yam | Dioscorea spp. Dioscorea opposita.
f97 | Chamomile tea | Matricaria chamomilla.
f98 | Gliadin | Triticum aestivum (Triticum spp.).
f102 | Cantaloupe | Cucumis melo var. cantalupensis.
f105 | Chocolate | Theobroma cacao.
f109 | Cottonseed | Gossypium hirsutum.
f110 | Giant radish | Raphanus sativus.
f118 | Zucchini | Cucurbita pepo.
f119 | Radish | Raphanus sativus.
f120 | Venison | Capreolus capeolus.
f121 | Pinto bean | Phaseolus vulgaris.
f122 | Cheese, American | NA.
f127 | Black-eyed pea | Vigna unguiculata.
f131 | Black Olive | Olea europaea.
f136 | Red beet | Beta vulgaris var. conditiva.
f139 | Goat's Cheese | Capra aegagrus.
f140 | Bran | NA.
f141 | Corn (vegetables) | Zea mays.
f152 | Green bell pepper | Capsicum annuum.
f155 | Brewer's yeast | Saccharomyces carlsbergensis.
f157 | Duck | Anas domesticus.
f158 | Goose | Anser anser.
f160 | Camembert cheese | NA.
f162 | Nectarine | Prunus persica var. nucipersica.
f163 | Kohlrabi | Brassica oleracea var. gongylodes.
f65 | Perch
f166 | Leek | Allium porrum.
f170 | Cheese (Switzerland) (Swiss cheese) | NA.
f174 | Fig | Ficus carica.
f177 | Cranberry | Vaccinium macrocarpon.
f179 | Raisin | Vitis spp.
f182 | Lima bean | Phaseolus lunatus.
f198 | Flaxseed (bruised grain) | Linum usitatissimum.
f199 | Untreated native milk | Bos domesticus (Bos taurus; Bos spp.).
f208 | Lemon | Citrus limon.
f209 | Grapefruit | Citrus paradisi.
f210 | Pineapple | Ananas comosus.
f211 | Blackberry | Rubus fruticosus.
f212 | Mushroom (champignon) | Agaricus hortensis (Agaricus spp.).
f213 | Rabbit | Oryctolagus cuniculus (Oryctolagus spp.).
f214 | Spinach | Spinacia oleracea.
f215 | Lettuce | Lactuca sativa.
f216 | Cabbage | Brassica oleracea var. capitata.
f217 | Brussels sprouts | Brassica oleracea var. gem.
f218 | Paprika, sweet pepper | Capsicum annuum.
f219 | Fennel seed | Foeniculum vulgare.
f219 | Sage | Salvia officinalis.
f220 | Cinnamon | Cinnamomum spp.
f221 | Coffee | Coffea spp.
f222 | Tea | Camellia sinensis.
f223 | Green olive | Olea europaea.
f225 | Summer squash, pumpkin | Cucurbita pepo.
f225 | Pumpkin | Cucurbita maxima.
f226 | Pumpkin seed | Cucurbita pepo.
f227 | Sugar-beet seed | Beta vulgaris.
f229 | Safflower Seed | Carthamus tinctorius.
f231 | Milk, boiled | Bos domesticus (Bos taurus; Bos spp.).
f234 | Vanilla | Vanilla planifolia.
f237 | Apricot | Prunus armeniaca.
f241 | Gouda cheese | NA.
f242 | Cherry | Prunus avium.
f244 | Cucumber | Cucumis sativus.
f246 | Guar, guar gum | Cyamopsis tetragonoloba.
f247 | Honey | NA.
f248 | Rosemary | Rosmarinus officinalis.
f254 | Plaice | Pleuronectes platessa.
f255 | Plum | Prunus domestica Prunus americana.
f258 | Squid | Loligo spp.
f259 | Grape | Vitis vinifera (Vitis spp.).
f260 | Broccoli | Brassica oleracea var. italica (Brassica oleracea var. cultivar).
f261 | Asparagus | Asparagus officinalis.
f262 | Aubergine, eggplant | Solanum melongena.
f263 | Green pepper | Piper nigrum Capsicum annuum.
f264 | Eel | Anguilla anguilla.
f265 | Caraway | Carum carvi.
f265 | Cumin | Cuminum cyminum.
f266 | Mace | Myristica fragrans.
f267 | Cardamon | Elettaria cardamomum.
f268 | Clove | Syzygium aromaticum.
f269 | Basil | Ocimum basilicum.
f270 | Ginger | Zingiber officinale.
f271 | Anise | Pimpinella anisum.
f272 | Tarragon | Artemisia dracunculus.
f273 | Thyme | Thymus vulgaris.
f274 | Marjoram | Origanum majorana.
f275 | Lovage | Levisticum officinale.
f276 | Fennel, fresh | Foeniculum vulgare.
f277 | Dill | Anethum graveolens.
f278 | Bay leaf | Laurus nobilis.
f279 | Chili pepper | Capsicum frutescens.
f280 | Black pepper | Piper nigrum.
f281 | Curry (Santa Maria) | NA.
f282 | Nutmeg | Myristica fragrans.
f283 | Oregano | Origanum vulgare.
f284 | Turkey meat | Meleagris gallopavo.
f285 | Elk/moose meat | Alces spp.
f286 | Mare's milk | Equus caballus (Equus spp.).
f287 | Red kidney bean | Phaseolus vulgaris.
f288 | Blueberry | Vaccinium myrtillus (Vaccinium spp.).
f289 | Date | Phoenix dactylifera.
f291 | Cauliflower | Brassica oleracea var. botrytis.
f292 | Guava | Psidium guajava.
f293 | Papaya | Carica papaya.
f294 | Passion fruit, Maracuja | Passiflora edulis (Passiflora spp.).
f295 | Carambola | Averrhoa carambola.
f296 | Carob | Ceratonia siliqua.
f297 | Gum arabic | Acacia senegal (Acacia spp.).
f298 | Tragacanth | Astragalus spp.
f299 | Sweet chestnut (chestnut) | Castanea sativa.
f300 | Pinto bean | Phaseolus spp.
f301 | Persimmon (kaki fruit, sharon) | Diospyros kaki.
f302 | Mandarin (tangerine, clementine, satsumas) | Citrus reticulata.
f305 | Fenugreek | Trigonella foenum-graecum.
f306 | Lime | Citrus aurantifolia.
f307 | Hake | Merluccius merluccius.
f308 | Sardine (pilchard) | Sardina pilchardus.
f310 | Blue vetch | Lathyrus sativus.
f311 | Megrim | Lepidorhombus whiffiagonis.
f315 | Green bean | Phaseolus vulgaris.
f316 | Rape seed | Brassica napus.
f317 | Coriander | Coriandrum sativum.
f318 | Jack fruit | Artocarpus heterophyllus.
f319 | Beetroot | Beta vulgaris.
f320 | Crayfish | Astacus astacus.
f321 | Horse meat | Equus caballus (Equus spp.).
f322 | Red currant | Ribes sylvestre.
f324 | Hop (fruit cone) | Humulus lupulus.
f325 | Saffron | Colchicum autumnale.
f328 | Fig | Ficus carica.
f329 | Watermelon | Citrullus lanatus.
f330 | Rose hip | Rosa spp.
f331 | Saffron | Crocus sativus.
f332 | Mint | Mentha piperita.
f333 | Linseed | Linum usitatissimum.
f336 | Jujube | Ziziphus jujuba.
f336 | Wine vinegar | Vitis vinifera (Vitis spp.).
f337 | Sole | Solea solea.
f337 | English sole | Parophrys vetulus.
f338 | Wine, white | Vitis vinifera (Vitis spp.).
f339 | Allspice | Pimenta dioica.
f339 | Wine, red | Vitis vinifera (Vitis spp.).
f341 | Cranberry | Vaccinium oxycoccus Vaccinium macrocarpon.
f342 | Olive (black, fresh) | Olea europaea.
f343 | Raspberry | Rubus idaeus.
f344 | Sage | Salvia officinalis.
f346 | Chives | Allium schoenoprasum.
f347 | Quinoa | Chenopodium quinoa.
f348 | Litchi | Litchi chinensis.
f349 | Chum salmon roe | Oncorhynchus keta.
f358 | Artichoke | Cynara scolymus.
f360 | Yogurt | NA.
f368 | Black bass | Micropterus dolomieu (Micropterus dolomieui).
f374 | Karaya gum | Sterculia urens.
f375 | Horseradish | Armoracia rusticana.
f377 | Maple syrup | NA.
f379 | Okra | Abelmoschus esculentus.
f382 | Beet, sugar | Beta vulgaris var. altissima.
f401 | Loquat | Eriobotrya japonica.
f402 | Fig | Ficus carica.
f403 | Brewer's yeast | Saccharomyces cerevisiae.
f405 | Mint | Mentha spp.
f406 | Arugula | Eruca vesicaria.
House Dust
h1 | Greer Labs., Inc. | NA.
h2 | Hollister-Stier Labs. | NA.
h6 | Japan | NA.
Venoms & Insects
i7 | Midge | Chironomus yoshimatsui.
i8 | Moth | Bombyx mori Heterocera spp.
i47 | Water flea | Daphnia spp.
i49 | Deer fly | Chrysops spp.
i51 | Black ant | Camponotus pennsylvanicus.
i54 | Flea mix (dog/cat), common flea | Ctenocephalides spp.
i71 | Mosquito | Aedes communis Aedes spp. and Culex spp.
i72 | Green nimitti | Cladotanytarsus lewisi.
i73 | Blood worm | Chironomus thummi Chironomusri parius Chironomus spp.
i75 | European hornet | Vespa crabro.
i76 | Berlin beetle | Trogoderma angustum.
i77 | European paper wasp | Polistes dominulus.
i78 | Fly | Musca domestica.
i80 | Bumblebee | Bombus pennsylvanicus.
i201 | Horse bot fly | Gasterophilus intestinalis.
i202 | Grain weevil | Sitophilus granarius.
i203 | Mediterranean flour moth | Ephestia kuehniella (Anagasta kuehniella).
i204 | Horse fly | Tabanus spp.
i205 | Bumblebee | Bombus terrestris.
i208 | Api m 1.0101 | Apis mellifera.
a45 | Api m 1 | Apis mellifera.
i209 | Ves v 5.0101 | Vespula vulgaris.
a670 | Ves v 5 | Vespula vulgaris.
i210 | Pol d 5.0101 | Polistes dominulus.
i211 | Ves v 1.0101 | Vespula vulgaris.
i213 | Api m 4 | Apis mellifera.
i214 | Api m 2 | Apis mellifera.
i215 | Api m 3 | Apis mellifera.
i216 | Api m 5 | Apis mellifera.
i217 | Api m 10 | Apis mellifera.
i220 | Bla g 1.0101 | Blattella germanica.
i221 | Bla g 2.0101 | Blattella germanica.
i222 | Bla g 5.0101 | Blattella germanica.
i223 | Bla g 7 | Blattella germanica
a46 | Api m 2 | Apis mellifera.
Miscellaneous
o1 | Cotton, crude fibers | Gossypium spp.
o3 | Cotton (treated) | Gossypium spp.
o70 | Seminal fluid | Homo sapiens.
o71 | Staphylococcus aureus | Staphylococcus aureus.
o72 | Pichia pastoris crude extract customer specific | Pichia pastoris.
o72 | Sperm-sediment | Homo sapiens.
o73 | Pichia pastoris crude extr. vector customer specific | Pichia pastoris.
o74 | Pichia pastoris with vector customer specific | Pichia pastoris.
o201 | Tobacco leaf, tobacco dust | Nicotiana tabacum.
o202 | Artemia salina, fish feed | Artemia salina.
o203 | Tetramin, fish feed | NA.
o207 | Daphnia, fish feed | Daphnia spp.
o211 | Mealworm | Tenebrio molitor.
o212 | Streptavidin | Streptomyces avidini.
o213 | MBP (maltose binding protein) | Escherichia coli.
o214 | CCD; MUXF3 from bromelain | Ananas comosus.
o72 | Enterotoxin A (Sta a SEA) | Staphylococcus aureus.
o73 | Enterotoxin B (Sta a SEB) | Staphylococcus aureus.
Parasites
p1 | Ascaris | Ascaris suum.
p2 | Echinococcus | Echinococcus granulosus.
p3 | Schistosoma | Schistosoma mansoni.
p4 | Anisakis (Herring Worm) | Anisakis simplex (Anisakis spp.).
p5 | Toxocara canis | Toxocara canis.
p10 | Ani s 3.0101 | Anisakis simplex (Anisakis spp.).
p11 | Ani s 1 | Anisakis simplex (Anisakis spp.).
Occupational
k4 | Threshing dust | NA.
k5 | Flax | NA.
k7 | Hay Dust | NA.
k8 | Hop (hops) | Humulus lupulus.
k12 | Grain mill dust | NA.
k14 | Kapok | NA.
k20 | Sheep's wool (treated) (wool) | Ovis aries (Ovis spp.).
k21 | Sheep's wool (Untreated) | Ovis aries (Ovis spp.).
k23 | Straw Dust | NA.
k33 | Oak | NA.
k70 | Green coffee bean | Coffea spp.
k71 | Castor bean | Ricinus communis.
k72 | Ispaghula | Plantago psyllium/Plantago ovata.
k73 | Silk waste | NA.
k74 | Silk | Bombyx mori.
k75 | Isocyanate TDI (Toluene diisocyanate) | NA.
k76 | Isocyanate MDI (Diphenylmethane diisocyanate) | NA.
k77 | Isocyanate HDI (Hexamethylen diisocyanate) | NA.
k78 | Ethylene oxide | NA.
k79 | Phthalic anhydride | NA.
k80 | Formaldehyde/Formalin | NA.
k81 | Ficus | Ficus benjamina (Ficus spp.).
k83 | Cotton seed | Gossypium hirsutum.
k84 | Sunflower seed | Helianthus annuus.
k85 | Chloramin T | NA.
k86 | Trimellitic anhydride, TMA | NA.
k87 | Asp o 21, alpha-amylase | Aspergillus oryzae.
k89 | Orris root | Iris florentina.
k99 | HSA (Human Serum Albumin) (Hom s HSA) | Homo sapiens.
k201 | Car p 1, Papain | Carica papaya.
k202 | Ana c 2, Bromelain | Ananas comosus.
k204 | Maxatase | Bacillus licheniformis.
k205 | Alcalase | Bacillus spp.
k206 | Savinase, Protease 1 (Bac l Subtilisin) | Bacillus spp.
k208 | Gal d 4, Lysozyme | Gallus domesticus (Gallus gallus domesticus; Gallus spp.).
k209 | Hexahydrophtalic anhydrid | NA.
k210 | Maleic anhydride | NA.
k211 | Methyltetrahydrophtalic anhydrid | NA.
k212 | Abachi wood dust | Triplochiton scleroxylon.
k213 | Pepsin (Sus s Pepsin) | Sus scrofa (Sus scrofa domesticus; Sus spp.).
k213 | TCPA | NA.
k214 | Bougainvillea | Bougainvillea spp.
k225 | Horse radish peroxidase (Arm r HRP) | Armoracia rusticana.
k226 | Ascorbate oxidase (Cuc p ascorbate oxidase) | Cucurbita pepo.
k301 | Flour dust | Triticum spp.
k501 | Savinase customer specific | Proprietary knowledge of customer.
k502 | Lipolase customer specific | Proprietary knowledge of customer.
k503 | Termamyl customer specific | Proprietary knowledge of customer.
k504 | Clazinase customer specific | Proprietary knowledge of customer.

V. Reference

The following reference is on display in the Dockets Management Staff (HFA-305), Food and Drug Administration, 5630 Fishers Lane, Rm. 1061, Rockville, MD 20852, and is available for viewing by interested persons between 9 a.m. and 4 p.m., Monday through Friday; it is also available electronically at https://www.regulations.gov. FDA has verified the Web site address, as of the date this document publishes in the Federal Register, but Web sites are subject to change over time.

1. FDA Guidance, “Procedures for Class II Device Exemptions From Premarket Notification, Guidance for Industry and CDRH Staff,” February 19, 1998, available at http://www.fda.gov/downloads/MedicalDevices/DeviceRegulationandGuidance/GuidanceDocuments/UCM080199.pdf.

Dated: July 5, 2017.
Anna K. Abram,
Deputy Commissioner for Policy, Planning, Legislation, and Analysis.

[FR Doc. 2017-14453 Filed 7-10-17; 8:45 am]

BILLING CODE 4164-01-P